EXPORT-IMPORT BANK

Sunshine Act Meeting

Notice of a Partially Open Meeting of the Board of Directors of the Export-Import Bank of the United States.

Time and Place: Monday, November 19, 2012 at 9:30 a.m. The meeting will be held at Ex-Im Bank in Room 321, 811 Vermont Avenue NW., Washington, DC 20571.

Open Agenda Items: Item No. 1: Proposed Economic Impact Procedures and Methodological Guidelines. Documentation including the proposed Economic Impact Procedures and Methodological Guidelines as well as the public comment can be accessed at the following location: http://www.exim.gov/generalbankpolicies/economicimpact/proposed-economic-impact-procedures.cfm

Public Participation: The meeting will be open to public observation for Item No. 1 only.

Further Information: The Bank requests that members of the public who wish to attend the meeting call Joyce Stone, Office of the Secretary, 811 Vermont Avenue NW., Washington, DC 20571 at (202) 565-3336 by close of business Wednesday, November 14, 2012.

Lisa V. Terry,
Assistant General Counsel.

[FR Doc. 2012-27421 Filed 11-7-12; 8:45 am]

BILLING CODE 6690-01-P